FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 25, 2013.

A. Federal Reserve Bank of Cleveland (Nadine Wallman, Vice President) 1455 East Sixth Street, Cleveland, Ohio 44101-2566:

1. WVS Financial Corp. ESOP and John W. Grace, Trustee, Pittsburgh, Pennsylvania; to retain and acquire additional voting shares of WVS Financial Corp., and thereby indirectly retain and acquire additional voting shares West View Savings Bank, both in Pittsburgh, Pennsylvania.

B. Federal Reserve Bank of Chicago (Colette A. Fried, Assistant Vice President) 230 South LaSalle Street, Chicago, Illinois 60690-1414:

1. Elisabeth Meyer Kimmel, La Jolla, California, as trustee of the EMK 2010 3Y GRATA, the EMK 2010 3Y GRAT B, the EMK 2010 3Y GRAT C, the EMK 2013 2Y GRATA, the EMK 2013 2Y GRAT B, the EMK 2013 2Y GRAT C, the EMK 2013 2Y GRAT D, and the EMK 2013 2Y GRAT E; August Christopher Meyer, Jr., individually and as trustee of the: ACM, Jr. 2010 3Y GRAT A, the ACM, Jr. 2010 3Y GRAT B, the ACM, Jr. 2010 3Y GRAT C, the ACM, Jr. 2013 2Y GRAT A, the ACM, Jr. 2013 2Y GRAT B, the ACM, Jr. 2013 2Y GRAT C, the ACM, Jr. 2013 2Y GRAT D, the Katharine Clara Kimmel Non-Exempt Trust C/U Elisabeth M. Kimmel 2002 Special Trust, the John August Kimmel Non-Exempt Trust C/U Elisabeth M. Kimmel 2002 Special Trust and the Thomas Conrad Kimmel Non-Exempt Trust C/U Elisabeth M. Kimmel 2002 Special Trust; Gregory B. Lykins, as trustee of the Elisabeth Meyer Kimmel Exempt Trust U/A of August C. Meyer, Jr. 2001 Special Trust and the August C. Meyer, Jr. 2012 Descendants Trust; Karen H. Meyer, as trustee of the Karen H. Meyer Revocable Trust, all of Champaign, Illinois; Gregory A. Kimmel, La Jolla, California, individually; the EMK 2010 3Y GRAT A; the EMK 2010 3Y GRAT B; the EMK 2010 3Y GRAT C; the EMK 2013 2Y GRAT A; the EMK 2013 2Y GRAT B; the EMK 2013 2Y GRAT C; the EMK 2013 2Y GRAT D; the EMK 2013 2Y GRAT E; the ACM, Jr. 2010 3Y GRAT A; the ACM, Jr. 2010 3Y GRAT B; the ACM, Jr. 2010 3Y GRAT C; the ACM, Jr. 2013 2Y GRAT A; the ACM, Jr. 2013 2Y GRAT B; the ACM, Jr. 2013 2Y GRAT C; the ACM, Jr. 2013 2Y GRAT D; the Katharine Clara Kimmel Non-Exempt Trust C/U; Elisabeth M. Kimmel 2002 Special Trust; the John August Kimmel Non-Exempt Trust C/U, Elisabeth M. Kimmel 2002 Special Trust; the Thomas Conrad Kimmel Non-Exempt Trust C/U; Elisabeth M. Kimmel 2002 Special Trust; the Elisabeth Meyer Kimmel Exempt Trust U/A of August C. Meyer, Jr. 2001 Special Trust; the August C. Meyer, Jr. 2012 Descendants Trust; and the Karen H. Meyer Revocable Trust, all of Champaign, Illinois, all as members of the Meyer/Kimmel Family Control Group, to retain and acquire voting shares of First Busey Corporation, and thereby indirectly retain and control voting shares of Busey Bank, both in Champaign, Illinois.

C. Federal Reserve Bank of Kansas City (Dennis Denney, Assistant Vice President) 1 Memorial Drive, Kansas City, Missouri 64198-0001:

1. Rick G. McKinney, Austin, Texas; to acquire voting shares of Town & Country Bancshares, LLC, and thereby indirectly acquire voting shares of Oklahoma State Bank, both in Guthrie, Oklahoma.

2. Troy and Crystal Faulkender, Oakley, Kansas; Jay and Brandy Todd, Rexford, Kansas; Darvin and Tammi Strutt, Colby, Kansas; Sharon and Ronnie Schamberger, Hoxie, Kansas; Crystal Ann Trauer, trustee of the Laurence Duane Trauer Tax Shelter Trust and the Crystal Ann Trauer Revocable Trust, Hays, Kansas; Nichole and Bret Tremblay, Manhattan, Kansas; Leslea and Brett Oelke, Hoxie, Kansas; Brittany Schamberger, Hoxie, Kansas, Taylore Schamberger, Hoxie, Kansas; Jerry and Melissa Spresser, Hoxie, Kansas; Larry and Julia Spresser, Pittsburg, Kansas; Brian and Sheri Baalman, Menlo, Kansas; and Samuel Brookover, Scott City, Kansas, as a group acting in concert, to acquire voting shares of Big Mac Bancshares, Inc., Hoxie, Kansas, and thereby indirectly acquire voting shares of Peoples State Bank, McDonald, Kansas.

Board of Governors of the Federal Reserve System, March 5, 2013.
Michael J. Lewandowski,
Assistant Secretary of the Board.

[FR Doc. 2013-05463 Filed 3-7-13; 8:45 am]

BILLING CODE 6210-01-P